DEPARTMENT OF ENERGY

Federal Energy Regulatory Commission

Combined Notice of Filings #2

Take notice that the Commission received the following electric rate filings:

Docket Numbers: ER10-2124-016.

Applicants: Spring Canyon Energy LLC.

Description: Supplement to December 23, 2016 Triennial Report of Spring Canyon Energy LLC.

Filed Date: 5/30/17.

Accession Number: 20170530-5318.

Comments Due: 5 p.m. ET 6/20/17.

Docket Numbers: ER10-2125-017.

Applicants: Judith Gap Energy LLC.

Description: Supplement to December 23, 2016 Triennial Report of Judith Gap Energy LLC.

Filed Date: 5/30/17.

Accession Number: 20170530-5319.

Comments Due: 5 p.m. ET 6/20/17.

Docket Numbers: ER10-2128-016.

Applicants: Wolverine Creek Energy LLC.

Description: Supplement to December 23, 2016 Triennial Report for Wolverine Creek Energy LLC.

Filed Date: 5/30/17.

Accession Number: 20170530-5317.

Comments Due: 5 p.m. ET 6/20/17.

Docket Numbers: ER10-2129-012.

Applicants: Grays Harbor Energy LLC.

Description: Supplement to December 23, 2016 Triennial Report of Grays Harbor Energy LLC.

Filed Date: 5/30/17.

Accession Number: 20170530-5320.

Comments Due: 5 p.m. ET 6/20/17.

Docket Numbers: ER10-2132-016.

Applicants: Willow Creek Energy LLC.

Description: Supplement to December 23, 2016 Triennial Report of Willow Creek Energy LLC.

Filed Date: 5/30/17.

Accession Number: 20170530-5321.

Comments Due: 5 p.m. ET 6/20/17.

Docket Numbers: ER10-2135-012.

Applicants: Spindle Hill Energy LLC.

Description: Supplement to December 23, 2016 Triennial Report of Spindle Hill Energy LLC.

Filed Date: 5/30/17.

Accession Number: 20170530-5322.

Comments Due: 5 p.m. ET 6/20/17.

Docket Numbers: ER16-1720-002.

Applicants: Invenergy Energy Management LLC.

Description: Supplement to December 23, 2016 Triennial Report for the Northwest Region of Invenergy Energy Management LLC.

Filed Date: 5/30/17.

Accession Number: 20170530-5141.

Comments Due: 5 p.m. ET 6/20/17.

Docket Numbers: ER17-1713-000.

Applicants: ISO New England Inc., NSTAR Electric Company.

Description: § 205(d) Rate Filing: ISO-NE and NSTAR Original Service Agreement under Schedule 21-NSTAR of ISO OATT to be effective 7/31/2017.

Filed Date: 5/31/17.

Accession Number: 20170531-5098.

Comments Due: 5 p.m. ET 6/21/17.

Docket Numbers: ER17-1714-000.

Applicants: Southern California Edison Company.

Description: § 205(d) Rate Filing: LGIA Puente Power Project to be effective 6/1/2017.

Filed Date: 5/31/17.

Accession Number: 20170531-5167.

Comments Due: 5 p.m. ET 6/21/17.

Docket Numbers: ER17-1715-000.

Applicants: Pacific Gas and Electric Company.

Description: § 205(d) Rate Filing: May 2017 Western WDT Service Agreement Biannual Filing to be effective 8/1/2017.

Filed Date: 5/31/17.

Accession Number: 20170531-5168.

Comments Due: 5 p.m. ET 6/21/17.

Docket Numbers: ER17-1716-000.

Applicants: Pacific Gas and Electric Company.

Description: § 205(d) Rate Filing: May 2017 Western Interconnection Agreement Biannual Filing to be effective 8/1/2017.

Filed Date: 5/31/17.

Accession Number: 20170531-5174.

Comments Due: 5 p.m. ET 6/21/17.

Docket Numbers: ER17-1717-000.

Applicants: Dynegy Conesville, LLC.

Description: § 205(d) Rate Filing: Reactive Service Rate Schedule Filings and Request for Waiver to be effective 5/9/2017.

Filed Date: 5/31/17.

Accession Number: 20170531-5190.

Comments Due: 5 p.m. ET 6/21/17.

Docket Numbers: ER17-1718-000.

Applicants: Dynegy Dicks Creek, LLC.

Description: § 205(d) Rate Filing: Reactive Service Rate Schedule Filings and Request for Waiver to be effective 8/1/2017.

Filed Date: 5/31/17.

Accession Number: 20170531-5194.

Comments Due: 5 p.m. ET 6/21/17.

Docket Numbers: ER17-1719-000.

Applicants: Dynegy Killen, LLC.

Description: § 205(d) Rate Filing: Reactive Service Rate Schedule Filings and Request for Waiver to be effective 8/1/2017.

Filed Date: 5/31/17.

Accession Number: 20170531-5196.

Comments Due: 5 p.m. ET 6/21/17.

Docket Numbers: ER17-1720-000.

Applicants: Dynegy Miami Fort, LLC.

Description: § 205(d) Rate Filing: Reactive Service Rate Schedule Filings and Request for Waiver to be effective 8/1/2017.

Filed Date: 5/31/17.

Accession Number: 20170531-5197.

Comments Due: 5 p.m. ET 6/21/17.

Docket Numbers: ER17-1721-000.

Applicants: Dynegy Stuart, LLC.

Description: § 205(d) Rate Filing: Reactive Service Rate Schedule Filings and Request for Waiver to be effective 8/1/2017.

Filed Date: 5/31/17.

Accession Number: 20170531-5201.

Comments Due: 5 p.m. ET 6/21/17.

Docket Numbers: ER17-1722-000.

Applicants: Dynegy Zimmer, LLC.

Description: § 205(d) Rate Filing: Reactive Service Rate Schedule Filings and Request for Waiver to be effective 8/1/2017.

Filed Date: 5/31/17.

Accession Number: 20170531-5203.

Comments Due: 5 p.m. ET 6/21/17.

Docket Numbers: ER17-1723-000.

Applicants: Green Power Solutions of Georgia, LLC.

Description: Baseline eTariff Filing: Application for Market Based Rate to be effective 6/1/2017.

Filed Date: 5/31/17.

Accession Number: 20170531-5205.

Comments Due: 5 p.m. ET 6/21/17.

Docket Numbers: ER17-1724-000.

Applicants: Southern California Edison Company.

Description: § 205(d) Rate Filing: Rate Schedule No. 508 to be effective 6/1/2017.

Filed Date: 5/31/17.

Accession Number: 20170531-5215.

Comments Due: 5 p.m. ET 6/21/17.

Docket Numbers: ER17-1725-000.

Applicants: MATL LLP.

Description: § 205(d) Rate Filing: Creditworthiness Alignment Filing to be effective 7/31/2017.

Filed Date: 5/31/17.

Accession Number: 20170531-5231.

Comments Due: 5 p.m. ET 6/21/17.

Docket Numbers: ER17-1726-000.

Applicants: Tampa Electric Company.

Description: § 205(d) Rate Filing: Emergency Interchange Service Schedule A&B-2017 (Bundled) to be effective 5/1/2017.

Filed Date: 5/31/17.

Accession Number: 20170531-5256.

Comments Due: 5 p.m. ET 6/21/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 31, 2017.
Kimberly D. Bose,
Secretary.

[FR Doc. 2017-11661 Filed 6-5-17; 8:45 am]

BILLING CODE 6717-01-P